DEPARTMENT OF LABOR

Employment and Training Administration

Final Finding of No Significant Impact, Homestead Job Corps Center Proposed Disposal and Reuse, With a Mailing Address of 12350 SW 285th Street, Homestead, FL 33033 With the Closest Physical Address at 470 Bougainville Boulevard, Homestead, FL

AGENCY: Employment and Training Administration, Labor.

ACTION: Final finding of no significant impact, Homestead Job Corps Center Proposed Disposal and Reuse, with a mailing address of 12350 SW 285th Street, Homestead, FL 33033 with the closest physical address at 470 Bougainville Boulevard, Homestead, FL.

SUMMARY: The Department of Labor's (DOL) Employment and Training Administration, pursuant to the Council on Environmental Quality Regulations (40 CFR part 1500-08) implementing procedural provisions of the National Environmental Policy Act (NEPA), in accordance with 29 CFR 11.11(d), gives final notice of the proposed disposal of the Homestead Job Corps Center totaling 41 acres and that this project will not have a significant adverse impact on the environment.

DATES: These findings are effective as of April 14, 2022.

ADDRESSES: For further information contact Derrek Sanks, Department of Labor, 200 Constitution Avenue NW, Room N-4460, Washington, DC 20210; Telephone (202) 693-9972 (this is not a toll free number).

FOR FURTHER INFORMATION CONTACT: Derrek Sanks at (202) 693-9972 (this is not a toll free number).

SUPPLEMENTARY INFORMATION: A public notice of availability of the draft environmental assessment (EA) was published in the Miami Herald in Miami, Florida, on January 28, 2022. The review period extended for 30 days, ending on February 28, 2022. No public comments were received. No changes to the findings of the EA have been made.

Implementation of the proposed action alternative will not have significant impacts on the human environment. The determination is sustained by the analysis in the EA, agency, consultation, the inclusion and consideration of public review, and the capability of mitigations to reduce or avoid impacts. Any adverse environmental effects that could occur are no more than minor in intensity, duration and context and less-than-significant. As described in the EA, there are no highly uncertain or controversial impacts, unique or unknown risks, significant cumulative effects, or elements of precedence. There are no previous, planned, or implemented actions, which, in combination with the proposed action alternative, would have significant effects on the human environment. Requirements of NEPA have been satisfied, and preparation of an Environmental Impact Statement is not required.

Angela Hanks,
Acting Assistant Secretary for Employment and Training Administration.

[FR Doc. 2022-07973 Filed 4-13-22; 8:45 am]

BILLING CODE 4510-FN-P